DEPARTMENT OF STATE

[Public Notice: 12338]

Notification of Meetings of the United States-Bahrain Subcommittee on Environmental Affairs and Joint Forum on Environmental Cooperation; Withdrawal

ACTION: Notice; withdrawal.

SUMMARY: The Department of State published a document in the Federal Register of February 14, 2024, concerning meetings of the United States-Bahrain Subcommittee on Environmental Affairs and Joint Forum on Environmental Cooperation. The meetings have been postponed and are pending new dates to reschedule.

FOR FURTHER INFORMATION CONTACT: Merideth Manella, (202) 286-5271, ManellaM@state.gov or Tia Potskhverashvili, (202) 395-5414, tiapots@ustr.eop.gov.

SUPPLEMENTARY INFORMATION: Withdrawal.

In the Federal Register of February 14, 2024, we withdraw FR Doc 2024-03027 [Public Notice: 12330].

Scott B. Ticknor,
Director, Office of Environmental Quality, U.S. Department of State.

[FR Doc. 2024-03694 Filed 2-22-24; 8:45 am]

BILLING CODE 4710-09-P